FEDERAL COMMUNICATIONS COMMISSION

Notice of Public Information Collection(s) Being Submitted for Review to the Office of Management and Budget

March 27, 2009.

SUMMARY: The Federal Communications Commission, as part of its continuing effort to reduce paperwork burden invites the general public and other Federal agencies to take this opportunity to comment on the following information collection(s), as required by the Paperwork Reduction Act (PRA) of 1995, 44 U.S.C. 3501—3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 2, 2009. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, or an e-mail to PRA@fcc.gov.

FOR FURTHER INFORMATION CONTACT: For additional information, contact Judith B. Herman at 202-418-0214 or via the Internet at Judith-B.Herman@fcc.gov.

SUPPLEMENTARY INFORMATION: OMB Control Number: 3060-0931.

Title: Maritime Mobile Service Identity (MMSI).

Form No.: N/A.

Type of Review: Extension of a currently approved collection.

Respondents: Individuals or households; business or other for-profit; and Federal Government.

Number of Respondents: 40,000 respondents; 40,000 responses.

Estimated Time per Response: .25 hours.

Frequency of Response: On occasion reporting requirement and third party disclosure requirement.

Obligation to Respond: Required to obtain or retain benefits. There is no statutory authority for this information collection. However, the Memorandum of Understanding (MOU) states that it is in accordance with Appendix 43 of the Radio Regulations.

Total Annual Burden: 10,000 hours.

Total Annual Cost: N/A.

Privacy Act Impact Assessment: Yes. The FCC has a System of Records Notice (SORN), FCC/WTB-1, “Wireless Services Licensing Records”, to cover the personally identifiable information affected by these information collection requirements. At this time, the Commission (FCC) is not required to complete a Privacy Impact Assessment.

Nature and Extent of Confidentiality: There is a need for confidentiality with respect to all owners of Marine VHF radios with Digital Selective Calling (DSC) capability in this collection. Pursuant to section 208(b) of the E-Government Act of 2002, 44 U.S.C. section 3501, in conformance with the Privacy Act of 1974, 5 U.S.C. 552(a), the Wireless Telecommunications Bureau instructs licensees to use the FCC's Universal Licensing System (ULS), Antenna Structure Registration (ASR), Commission Registration System (CORES) and related systems and subsystems to submit information. CORES is used to receive an FCC Registration Number (FRN) and password, after which one must register all current call signs and ASR numbers associated with a FRN within the Bureau's system of records (ULS database). Although ULS stores all information pertaining to the individual license via the FRN, confidential information is accessible only by persons or entities that hold the password for each account, and the Bureau's Licensing Division staff. Upon the request of a FRN, the individual licensee is consenting to make publicly available, via the ULS database, all information that is not confidential in nature. Information on the marine VHF radios with DSC capability is maintained in the Commission's system of records, FCC/WTB-1, “Wireless Services Licensing Records.” The licensee records will be publicly available and routinely used in accordance with subsection (b) of the Privacy Act. FRN numbers and material which is afforded confidential treatment pursuant to a request made under 47 CFR 0.459 of the Commission's rules will not be available for public inspection. Any personally identifiable information (PII) that individual applicants provide is covered by a system of records (FCC/WTB-1, “Wireless Services Licensing Records”) and these and all other records may be disclosed pursuant to the routine uses as stated in the system of records notice.

Needs and Uses: The Commission will submit this information collection to the Office of Management and Budget (OMB) after this 60 day comment period in order to obtain the full three year clearance from them. The Commission is requesting an extension (no change in the reporting and/or third party disclosure requirements) of this information collection. The Commission is reporting a significant increase in the estimated number of respondents/responses since this was last submitted to OMB in 2006. In 2006, the Commission reported 2,000 respondents/responses with 1,000 total annual burden hours. For this submission to the OMB, the number of respondents increased by 38,000 with an estimated annual burden of 10,000 burden hours.

The information collection is necessary to require owners of marine VHF radios with Digital Selective Calling (DSC) capability to register information such as the name, address, type of vessel with a private entity issuing marine mobile service identities (MMSI). The information would be used by search and rescue personnel to identify vessels in distress and to select the proper rescue units and search methods. The requirement to collect this information is not contained in a Commission rule or formal FCC order, but in the agreements the FCC executes with private sector entities that issue MMSI's.

The information is used by private entities to maintain a database used to provide information about the vessel owner in distress using marine VHF radios with DSC capability. If the collection were not conducted, the U.S. Coast Guard would not have access to this information which would increase the time and effort needed to complete a search and rescue operation.

Marlene H. Dortch,
Secretary, Federal Communications Commission.

[FR Doc. E9-7523 Filed 4-2-09; 8:45 am]

BILLING CODE 6712-01-P